DEPARTMENT OF THE INTERIOR

National Park Service

[NPS-WASO-NAGPRA-NPS0035977; PPWOCRADN0-PCU00RP14.R50000]

Notice of Inventory Completion: Rochester Museum & Science Center, Rochester, NY

AGENCY: National Park Service, Interior.

ACTION: Notice.

SUMMARY: In accordance with the Native American Graves Protection and Repatriation Act (NAGPRA), the Rochester Museum & Science Center (RMSC) has completed an inventory of human remains and associated funerary objects and has determined that there is a cultural affiliation between the human remains and associated funerary objects and Indian Tribes or Native Hawaiian organizations in this notice. The human remains and associated funerary objects were removed from Broome County, NY.

DATES: Repatriation of the human remains and associated funerary objects in this notice may occur on or after July 10, 2023.

ADDRESSES: Kathryn Murano Santos, Rochester Museum & Science Center, 657 East Avenue, Rochester, NY 14607, telephone (585) 697-1929, email kmurano@rmsc.org.

SUPPLEMENTARY INFORMATION: This notice is published as part of the National Park Service's administrative responsibilities under NAGPRA. The determinations in this notice are the sole responsibility of the Rochester Museum & Science Center. The National Park Service is not responsible for the determinations in this notice. Additional information on the determinations in this notice, including the results of consultation, can be found in the inventory or related records held by the Rochester Museum & Science Center.

Description

Human remains representing, at minimum, seven individuals were removed from the Palmer (F.A. Rider) Site (Ap1 001) in Broome County, NY. The individuals were excavated during RMSC expeditions in 1931, 1933, and 1948. No known individuals were identified. Of the eight associated funerary objects listed in this notice, two objects are present and accounted for in the RMSC collections and six objects are currently missing. (Rochester Museum & Science Center continues to look for these missing objects.) The two present associated funerary objects are one lot of sherds and one lot of bear skeletons. The six currently missing associated funerary objects are one deer skull; two stone net sinkers; one miniature pot; and two body sherds.

Human remains representing, at minimum, 27 individuals were removed from the Roger P. Clark Site (Bgh 002) in Broome County, NY. The individuals were excavated by the Rochester Museum in 1929 and 1930. No known individuals were identified. The one associated funerary object is a lot of mixed soil and bone fragments.

Human remains representing, at minimum, one individual were removed from the Roger P. Clark Site (Bgh 002) in Broome County, NY. The individual was removed by Mr. Clark in 1930. No known individual was identified. The one associated funerary object is one lot of brass thimbles with thongs.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following type of information was used to reasonably trace the relationship: geographical.

Determinations

Pursuant to NAGPRA and its implementing regulations, and after consultation with the appropriate Indian Tribes and Native Hawaiian organizations, the Rochester Museum & Science Center has determined that:

• The human remains described in this notice represent the physical remains of 35 individuals of Native American ancestry.

• The 10 objects described in this notice are reasonably believed to have been placed with or near individual human remains at the time of death or later as part of the death rite or ceremony.

• There is a relationship of shared group identity that can be reasonably traced between the human remains and associated funerary objects described in this notice and the Delaware Nation, Oklahoma; Delaware Tribe of Indians; Oneida Indian Nation; Oneida Nation; Onondaga Nation; and the Tuscarora Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 10, 2023. If competing requests for repatriation are received, the Rochester Museum & Science Center must determine the most appropriate requestor prior to repatriation. Requests for joint repatriation of the human remains and associated funerary objects are considered a single request and not competing requests. The Rochester Museum & Science Center is responsible for sending a copy of this notice to the Indian Tribes identified in this notice.

Authority: Native American Graves Protection and Repatriation Act, 25 U.S.C. 3003, and the implementing regulations, 43 CFR 10.9, 10.10, and 10.14.

Dated: May 31, 2023.
Melanie O'Brien,
Manager, National NAGPRA Program.

[FR Doc. 2023-12282 Filed 6-7-23; 8:45 am]

BILLING CODE 4312-52-P